DEPARTMENT OF VETERANS AFFAIRS

[OMB Control No. 2900-0176]

Agency Information Collection Activities Under OMB Review

AGENCY: Veterans Benefits Administration, Department of Veterans Affairs.

ACTION: Notice.

SUMMARY: In compliance with the Paperwork Reduction Act (PRA) of 1995 (44 U.S.C. 3501-21), this notice announces that the Veterans Benefits Administration (VBA), Department of Veterans Affairs, has submitted the collection of information abstracted below to the Office of Management and Budget (OMB) for review and comment. The PRA submission describes the nature of the information collection and its expected cost and burden; it includes the actual data collection instrument.

DATES: Comments must be submitted on or before January 5, 2007.

ADDRESSES: Submit written comments on the collection of information through http://www.Regulations.gov; or to VA's OMB Desk Officer, OMB Human Resources and Housing Branch, New Executive Office Building, Room 10235, Washington, DC 20503 (202) 395-7316. Please refer to “OMB Control No. 2900-0176” in any correspondence.

FOR FURTHER INFORMATION CONTACT: Denise McLamb, Initiative Coordination Service (005G1), Department of Veterans Affairs, 810 Vermont Avenue, NW., Washington, DC 20420, (202) 565-8374, fax (202) 565-7870 or e-mail denise.mclamb@mail.va.gov. Please refer to “OMB Control No. 2900-New (22-0803)].”

SUPPLEMENTARY INFORMATION: Title: Monthly Record of Training and Wages, VA Form 28-1905c.

OMB Control Number: 2900-0176.

Type of Review: Existing collection in use without an OMB control number.

Abstract: On-the-job trainers use VA Form 28-1905c to maintain accurate records on a trainee's progress toward his/her rehabilitation goals as well as recording the trainee's on-the-job training monthly wages. Trainers report these wages on the form at the beginning of the program and at any time the trainee's wage rate changes. Following a trainee's completion of a vocational rehabilitation program, the form is submitted to the trainee's case manager to monitor the trainee's training and to ensure that the trainee is progressing and learning the skills necessary to carry out the duties of his or her occupational goal.

An agency may not conduct or sponsor, and a person is not required to respond to a collection of information unless it displays a currently valid OMB control number.

The Federal Register Notice with a 60-day comment period soliciting comments on this collection of information was published on August 22, 2006, at pages 48974-48975.

Affected Public: Individuals or households, Business or other for-profit, Not-for-profit institutions, farms, and state, local or tribal government.

Estimated Annual Burden: 3,000 hours.

Estimated Average Burden Per Respondent: 15 minutes.

Frequency of Response: Three times a year.

Estimated Number of Respondents: 4,800.

Dated: November 22, 2006.
By direction of the Secretary.
Cindy Stewart,
Program Analyst, Initiative Coordination Service.

[FR Doc. E6-20668 Filed 12-5-06; 8:45 am]

BILLING CODE 8320-01-P